DEPARTMENT OF STATE

[Public Notice 7093]

Bureau of Political-Military Affairs; Lifting of Policy of Denial Regarding Activities of Presidential Airways, Inc. and its Subsidiaries/Affiliates Regulated Under the International Traffic in Arms Regulations (ITAR) (22 CFR Parts 120-130)

ACTION: Notice.

SUMMARY: Notice is hereby given that the Department of State is lifting the policy of denial regarding Presidential Airways, Inc. and its subsidiaries/affiliates imposed on December 18, 2008 (73 FR 77099) pursuant to section 38 of the Arms Export Control Act (AECA) (22 U.S.C. 2778) and section 126.7 of the International Traffic in Arms Regulations (ITAR).

DATES: Effective Date: July 7, 2010.

FOR FURTHER INFORMATION CONTACT: Lisa V. Studtmann, Director, Office of Defense Trade Controls Compliance, Bureau of Political-Military Affairs, Department of State (202) 663-2980.

SUPPLEMENTARY INFORMATION: Section 126.7 of the ITAR provides that any application for an export license or other approval under the ITAR may be disapproved, and any license or other approval or exemption granted may be revoked, suspended, or amended without prior notice whenever, among other things, the Department of State believes that 22 U.S.C. 2778, any regulation contained in the ITAR, or the terms of any U.S. Government export authorization (including the terms of a manufacturing license or technical assistance agreement, or export authorization granted pursuant to the Export Administration Act, as amended) has been violated by any party to the export or other person having a significant interest in the transaction; or whenever the Department of State deems such action to be in furtherance of world peace, the national security or the foreign policy of the United States, or is otherwise advisable.

On December 2, 2008, the Department of State placed EP Investments, LLC, now Xe Services LLC (a/k/a Blackwater) (hereafter referred to as Xe), including its subsidiaries or associated companies, under a policy of denial to ensure that Xe is both capable of and willing to comply with the AECA and ITAR.

On April 7, 2010, AAR International, Inc. (AAR) acquired some of Xe's former subsidiaries, including Presidential Airways, Inc.; Aviation Worldwide Services, LLC; Air Quest, Inc.; STI Aviation, Inc.; and EP Aviation, LLC (together referred to as “Presidential”). The Department of State has determined that AAR has taken appropriate steps to resolve Presidential's alleged violations. AAR has improved ITAR compliance procedures within Presidential and has entered into a civil settlement with the Department to resolve outstanding alleged violations, institute external compliance oversight, and continue and improve compliance measures involving Presidential.

Therefore, the Department rescinds its denial policy against Presidential, effective July 15, 2010.

Dated: July 15, 2010.
Andrew J. Shapiro,
Assistant Secretary, Bureau of Political-Military Affairs, Department of State.

[FR Doc. 2010-18109 Filed 7-22-10; 8:45 am]

BILLING CODE 4710-25-P